DEPARTMENT OF AGRICULTURE

Animal and Plant Health Inspection Service

9 CFR Parts 91 and 161

[Docket No. 99-053-1]

Origin Health Certificates for Livestock Exported From the United States

AGENCY: Animal and Plant Health Inspection Service, USDA.

ACTION: Proposed rule.

SUMMARY: We are proposing to amend the animal export regulations to allow origin health certificates issued for animals intended for export from the United States to be valid for longer than 30 days in some cases, based on the requirements of the country of destination. Currently, origin health certificates for animals intended for export from the United States must certify that the animals were inspected within the 30 days prior to the movement for export. They must also contain information about any tests required to be conducted prior to export. Generally, the animals are inspected and tested (or samples are taken for testing) on the same day. However, some countries require or allow testing to be conducted more than 30 days prior to the date of export. This action would allow animals to be inspected for the origin health certificate as early as the required testing or sampling may be performed, in accordance with the requirements of the country of destination. We believe this can be allowed without increasing the risk of infected or exposed animals being exported, since all livestock leaving the United States by sea or air are inspected again by a U.S. Department of Agriculture veterinarian within 24 hours of export; and animals exported to Canada or Mexico by land are inspected by those nations prior to crossing the land border. This action would simplify the export process and reduce costs for exporters.

DATES: We invite you to comment on this docket. We will consider all comments that we receive by June 16, 2000.

ADDRESSES: Please send your comment and three copies to: Docket No. 99-053-1, Regulatory Analysis and Development, PPD, APHIS, Suite 3C03, 4700 River Road, Unit 118, Riverdale, MD 20737-1238. Please state that your comment refers to Docket No. 99-053-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS rules, are available on the Internet at http://www.aphis.usda.gov/ppd/rad/webrepor.html.

FOR FURTHER INFORMATION CONTACT: Dr. Najam Q. Faizi, Senior Staff Veterinarian, Animals Program, National Center for Import and Export, VS, APHIS, 4700 River Road Unit 39, Riverdale, MD 20737-1231; (301) 734-5256.

SUPPLEMENTARY INFORMATION:

Background

The regulations in 9 CFR part 91, “Inspection and Handling of Livestock for Exportation” (referred to below as the regulations), prescribe conditions for exporting animals from the United States. Section 91.3 of the regulations provides, among other things, that all animals intended for exportation to a foreign country must be accompanied from the State of origin of the export movement to the port of embarkation or the border of the United States by an origin health certificate. The origin health certificate must certify that the animals were inspected within the 30 days prior to the date of the movement of the animals for export and that they were found to be healthy and free from evidence of communicable disease and exposure to communicable disease. The origin health certificate must be issued by an Animal and Plant Health Inspection Service (APHIS) representative or an accredited veterinarian and must be endorsed by an authorized APHIS veterinarian in the State of origin of the export movement. The origin health certificate must individually identify the animals in the shipment as to species, breed, sex, and age and, if applicable, must also show registration name and number, natural markings, and acquired markings. The origin health certificate must also include all test results, certifications, or other statements required by the country of destination.

Section 91.3(c) requires that all samples for tests required by the regulations be taken by an inspector or accredited veterinarian in the State of origin of the export movement. Further, § 91.3 requires that the samples be taken and tests made within the 30 days prior to the date of the export movement, with the following exceptions: The Administrator may permit sampling and testing more than 30 days prior to the date of export if required by the receiving country, and the tuberculin test may be conducted within the 90 days prior to the date of the movement of the animals for export.

The provision allowing sampling and tests more than 30 days prior to the date of export if required by the receiving country is intended to cover those cases where the country of destination either allows testing earlier than 30 days prior to the date of export, or requires earlier testing. For example, sometimes the country of destination wishes to test the animals again upon arrival. Since a certain interval of time must elapse between tests, the country requires pre-export testing to be conducted more than 30 days prior to the date of export.

When preparing animals for exportation, exporters normally request the accredited veterinarian or APHIS representative who takes samples for testing to inspect the animals and issue the origin health certificate at the same time. Exporters who have their animals inspected and obtain an origin health certificate more than 30 days prior to the date of export arrive at the port of embarkation or the border with an invalid origin health certificate. This is because, as explained earlier, § 91.3(a) requires the origin health certificate to certify that the animals were inspected within the 30 days prior to the date of export. Exporters must then obtain a second origin health certificate. The services of an APHIS representative or accredited veterinarian are required, there is a fee for the issuance of the origin health certificate, and the exporter is inconvenienced.

We are proposing to amend the regulations to allow animals to be inspected for the origin health certificate as early as the required sampling or testing may be performed, in accordance with the requirements of the country of destination. Although this change will mean that some animals will be inspected for export in the State of origin more than 30 days prior to export, all animals leaving the country are inspected an additional time. In accordance with § 91.15 of the regulations, all animals leaving the country by sea or air must be inspected by an APHIS veterinarian within 24 hours of embarkation at an export inspection facility at an authorized port. All animals offered for exportation into Mexico or Canada through a land border port are inspected at the border by Mexican or Canadian officials before being authorized entry into Mexico or Canada. Thus, there is another opportunity to inspect the animals for evidence of disease or exposure to disease before they are exported from the United States.

This action would simplify the export process and reduce costs for those exporters who now must secure a new origin health certificate at the port of embarkation or border because they were unaware of the current time limitations for the export certificates.

In conjunction with this proposed amendment, we also propose to amend § 91.3(c). As explained earlier in this document, § 91.3(c) now provides that the Administrator may permit sampling and testing more than 30 days prior to the date of export if required by the receiving country. This wording does not adequately cover cases where a receiving country allows (rather than requires) sampling or testing more than 30 days prior to the date of export. Therefore, we propose to change this language to provide that the Administrator may permit sampling and testing more than 30 days prior to the date of export when required or allowed by the country of destination.

We also propose to amend § 91.3(a) and (c) to replace the phrase “the date of the movement of the animals for export” with “the date of export.” We currently use both phrases in § 91.3(a) and (c) in various places. It is not clear from “the date of the movement of the animals for export” whether we mean the date that animals move from their premises of origin to the port of embarkation or border, or the date the animals move from the port of embarkation or across the border. We mean the latter, and we believe using the term “date of export” consistently will help clarify that.

Further, we propose to amend 9 CFR part 161, “Requirements and Standards for Accredited Veterinarians and Suspension or Revocation of Such Accreditation.” Currently, § 161.3(b) states that certificates, forms, records, and reports issued by an accredited veterinarian shall be valid for 30 days following the date of inspection of the animal identified on the document. We propose to amend § 161.3(b) to allow an origin health certificate to be valid for more than 30 days when the Administrator allows the animals to be inspected more than 30 days prior to the date of export in accordance with § 91.3.

Executive Order 12866 and Regulatory Flexibility Act

This proposed rule has been reviewed under Executive Order 12866. The rule has been determined to be not significant for the purposes of Executive Order 12866 and, therefore, has not been reviewed by the Office of Management and Budget.

The regulations currently require all animals intended for exportation from the United States to be accompanied from the State of origin to the port of embarkation or the border of the United States by an origin health certificate. The origin health certificate must be issued by an APHIS representative or an accredited veterinarian. It must certify that the animals were inspected within 30 days of being exported and were found to be healthy and free from evidence of communicable disease and exposure to communicable disease. The origin health certificate must also include all test results, certifications, or other statements required by the country of destination. If required by the country of destination, the Administrator may permit sampling and testing more than 30 days prior to the date of export.

We are proposing to amend part 91 to allow animals to be inspected for the origin health certificate as early as the sampling or testing may be performed. We also propose to amend part 161 to allow an origin health certificate to be valid for more than 30 days when animals are allowed to be inspected more than 30 days prior to the date of movement for export in accordance with § 91.3.

Costs

Currently, exporters who have their animals inspected and obtain an origin health certificate more than 30 days prior to the date of export must obtain a new origin health certificate when the animals arrive at the port of embarkation or the border. On average, it costs $150 to have a veterinarian inspect animals for export and issue an origin health certificate. If this proposal is adopted, the original origin health certificate will still be valid when the animals arrive at the port of embarkation or the border, and the exporter will not incur the costs of obtaining an additional origin health certificate.

Live Animal Exports

United Nations trade data show that U.S. exports of live animals are worth more than half a billion dollars a year (see tables 1 and 2). On average, U.S. exports of live animals from 1993 through 1998 were distributed as follows: More than 40 percent went to Mexico and Canada, approximately 15.3 percent went to Japan, approximately 2 percent went to Brazil, 1.4 percent went to Turkey, 1.1 percent went to the Republic of Korea (Korea), and less than 1 percent went to Egypt or Taiwan. Of these countries, Brazil, Egypt, Japan, Korea, Taiwan, and Turkey provide for sampling and testing of live animals more than 30 days prior to exportation from the country of origin.

Table 1.—U.S. Exports of Live Animals
[In $1,000]
Year | Mexico | Canada | Brazil | Egypt | Japan | Korea | Taiwan | Turkey | Rest of the world | Total
1993 | $108,679 | $127,058 | $12,339 | $1,337 | $39,667 | $4,777 | $3,116 | $2,339 | $219,615 | $518,927
1994 | 149,747 | 146,578 | 12,415 | 2,800 | 47,516 | 6,740 | 3,496 | 1,136 | 216,924 | 587,352
1995 | 31,409 | 124,974 | 14,179 | 2,196 | 110,646 | 8,856 | 2,791 | 7,689 | 216,502 | 519,242
1996 | 81,119 | 105,130 | 10,598 | 6,362 | 103,228 | 7,412 | 3,236 | 9,307 | 206,141 | 532,533
1997 | 207,854 | 104,699 | 13,358 | 2,261 | 108,049 | 7,975 | 2,237 | 2,042 | 235,364 | 683,839
1998 | 140,632 | 132,178 | 9,969 | 5,569 | 72,156 | 3,568 | 1,919 | 9,616 | 302,545 | 678,152

Table 2.—U.S. Exports of Live Animals
[As a percent of total U.S. exports]
Year | Mexico | Canada | Mexico and Canada | Brazil | Egypt | Japan | Korea | Taiwan | Turkey | Brazil, Egypt, Japan, Korea, Taiwan, and Turkey
1993 | 21 | 25 | 45.4 | 2.4 | 0.3 | 7.6 | 0.9 | 0.6 | 0.5 | 12.3
1994 | 26 | 25 | 50.5 | 2.1 | 0.5 | 8.1 | 1.1 | 0.6 | 0.2 | 12.6
1995 | 6 | 24 | 30.1 | 2.7 | 0.4 | 21.3 | 1.7 | 0.5 | 1.5 | 28.2
1996 | 15.2 | 19.7 | 35.0 | 2.0 | 1.2 | 19.4 | 1.4 | 0.6 | 1.7 | 26.3
1997 | 30 | 15 | 45.7 | 2.0 | 0.3 | 15.8 | 1.2 | 0.3 | 0.3 | 19.9
1998 | 21 | 20 | 40.2 | 1.5 | 0.8 | 10.6 | 0.5 | 0.3 | 1.4 | 15.2

Kazakhstan, Turkmenistan, and Uzbekistan also provide for sampling and testing of live animals more than 30 days prior to exportation from the country of origin. These three Central Asian countries have imported relatively few live animals in the 6-years period from 1993 through 1998 and none from the United States. Table 3 shows the value of live animals imported into these three countries, based on United Nations data.

Table 3.—Imports of Live Animals
[In $1,000]
Year | Kazakhstan | Turkmenistan | Uzbekistan | All countries
1993 | $600 | $551 |  | $8,965,958
1994 | 29 |  | $400 | 9,556,484
1995 | 427 |  | 200 | 10,020,452
1996 | 137 |  | 200 | 9,925,704
1997 | 231 |  | 200 | 8,991,483
1998 | 433 |  | 200 | 8,991,071

This proposed rule would facilitate live animal exports from the United States to Brazil, Egypt, Japan, Kazakhstan, Korea, Taiwan, Turkey, Turkmenistan, Uzbekistan, and other countries that may allow or require animals to be tested, or samples to be taken for testing, more than 30 days prior to export from the United States. Approximately 19 percent of live animal exports from the United States went to these countries over the 6-year period from 1993 through 1998. We do not know how many of these shipments were made by small entities. However, all U.S. entities, including small entities, who export live animals to these countries would benefit from this proposal, albeit in a relatively small way, by not having to bear the costs of an additional origin health certificate, estimated at approximately $150 per shipment.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

Lists of Subjects

9 CFR Part 91

Animal diseases, Animal welfare, Exports, Livestock, Reporting and recordkeeping requirements, Transportation.

9 CFR Part 161

Reporting and recordkeeping requirements, Veterinarians.

Accordingly, we propose to amend 9 CFR parts 91 and 161 as follows:

PART 91—INSPECTION AND HANDLING OF LIVESTOCK FOR EXPORTATION

1. The authority citation for part 91 continues to read as follows:

Authority: 21 U.S.C. 105, 112, 113, 114a, 120, 121, 134b, 134f, 136, 136a, 612, 613, 614, and 618; 46 U.S.C. 466a and 466b; 49 U.S.C. 1509(d); 7 CFR 2.22, 2.80, and 371.2(d).

2. In § 91.3, paragraph (a) and the second sentence in paragraph (c) would be revised to read as follows:

§ 91.3 General export requirements.

(a) All animals intended for exportation to a foreign country, except by land to Mexico or Canada, must be accompanied from the State of origin of the export movement to the port of embarkation by an origin health certificate. All animals intended for exportation by land to Mexico or Canada must be accompanied from the State of origin of the export movement to the border of the United States by an origin health certificate. The origin health certificate must certify that the animals were inspected within the 30 days prior to the date of export, except as follows: When the Administrator allows sampling or testing to be done more than 30 days prior to the date of export, in accordance with paragraph (c) of this section, then the animals also may be inspected within that same time period, and the origin health certificate will remain valid for that time period. The origin health certificate must certify that the animals were found upon inspection to be healthy and free from evidence of communicable disease and exposure to communicable disease. The origin health certificate must be endorsed by an authorized APHIS veterinarian in the State of origin and must include any test results added by the authorized APHIS veterinarian pursuant to § 161.3(k) of this chapter (any added test results must be initialed by the authorized veterinarian). The origin health certificate must individually identify the animals in the shipment as to species, breed, sex, and age and, if applicable, must also show registration name and number, tattoo markings, or other natural or acquired markings. The origin health certificate must include all test results, certifications, or other statements required by the country of destination.

* * * * *

(c) * * * The samples must be taken and tests must be made within the 30 days prior to the date of export, except that the Administrator may allow such sampling or testing to be conducted more than 30 days prior to the date of export if required or allowed by the receiving country, and the tuberculin test may be conducted within the 90 days prior to the date of export. * * *

* * * * *

PART 161—REQUIREMENTS AND STANDARDS FOR ACCREDITED VETERINARIANS AND SUSPENSION OR REVOCATION OF SUCH ACCREDITATION

3. The authority citation for part 161 continues to read as follows:

Authority: 15 U.S.C. 1828; 21 U.S.C. 105, 111-114, 114a, 114a-1, 115, 116, 120, 121, 125, 134b, 134f, 612, and 613; 7 CFR 2.22, 2.80, and 371.2(d).

4. In § 161.3, paragraph (b) would be revised to read as follows.

§ 161.3 Standards for accredited veterinarian duties.

* * * * *

(b) An accredited veterinarian shall not issue, or allow to be used, any certificate, form, record or report, until, and unless, it has been accurately and fully completed, clearly identifying the animals to which it applies, and showing the dates and results of any inspection, test, vaccination, or treatment the accredited veterinarian has conducted, except as provided in paragraph (c) of this section, and the dates of issuance and expiration of the document. Certificates, forms, records, and reports shall be valid for 30 days following the date of inspection of the animal identified on the document, except that origin health certificates may be valid for a longer period of time as provided in § 91.3(a) of this chapter. The accredited veterinarian must distribute copies of certificates, forms, records, and reports according to instructions issued to him or her by the Veterinarian-in-Charge.

* * * * *

Done in Washington, DC, this 11th day of April 2000.
Bobby R. Acord,
Acting Administrator, Animal and Plant Health Inspection Service.

[FR Doc. 00-9492 Filed 4-14-00; 8:45 am]

BILLING CODE 3410-34-P